DEPARTMENT OF COMMERCE

National Oceanic and Atmospheric Administration

RIN 0648-XV75

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 3-day Atlantic Highly Migratory Species (HMS) Advisory Panel (AP) meeting in May 2010. The intent of the meeting is to consider options for the conservation and management of Atlantic HMS. The meeting is open to the public.

DATES: The AP meeting will be held from 1 p.m. to 6 p.m. on Tuesday, May 11, 2010; from 8:30 a.m. to 5:30 p.m. on Wednesday, May 12, 2010; and from 8:30 a.m. to 3 p.m. on Thursday, May 13, 2010.

ADDRESSES: The meeting will be held at the Crowne Plaza Hotel, 8777 Georgia Avenue, Silver Spring, MD 20910.

FOR FURTHER INFORMATION CONTACT: Brian Parker or Margo Schulze-Haugen at 301-713-2347.

SUPPLEMENTARY INFORMATION: The Magnuson Stevens Fishery Conservation and Management Act, 16 U.S.C. 1801 et seq., as amended by the Sustainable Fisheries Act, Public Law 104 297, provided for the establishment of an AP to assist in the collection and evaluation of information relevant to the development of any Fishery Management Plan (FMP) or FMP amendment for HMS. NMFS consults with and considers the comments and views of AP members when preparing and implementing FMPs or FMP amendments for Atlantic tunas, swordfish, billfish, and sharks.

The AP has previously consulted with NMFS on Amendment 1 to the Billfish FMP (April 1999), the HMS FMP (April 1999), Amendment 1 to the HMS FMP (December 2003), the Consolidated HMS FMP (October 2006), and Amendments 1, 2, and 3 to the Consolidated HMS FMP (April and October 2008, and February and September 2009). At the May 2010 AP meeting, NMFS plans to discuss the management measures in Amendment 3 to the 2006 Consolidated HMS FMP for small coastal, shortfin mako, and smoothhound sharks, and conduct working group sessions regarding Atlantic bluefin tuna, sharks, and swordfish buoy gear fishery management. Other potential items for discussion include billfish and vessel monitoring system issues. An introductory session for new AP members will be held at 10:30 a.m. on May 11, 2010.

Special Accommodations

This meeting is physically accessible to people with disabilities. Requests for sign language interpretation or other auxiliary aids should be directed to Brian Parker at (301) 713-2347, at least 7 days prior to the meeting.

Dated: April 9, 2010.
Emily H. Menashes,
Acting Director, Office of Sustainable Fisheries, National Marine Fisheries Service.

[FR Doc. 2010-8551 Filed 4-13-10; 8:45 am]

BILLING CODE 3510-22-S